DEPARTMENT OF THE TREASURY

Internal Revenue Service

26 CFR Part 1

[REG-132554-08]

RIN 1545-BI16

Additional Rules Regarding Hybrid Retirement Plans; Correction

AGENCY: Internal Revenue Service (IRS), Treasury.

ACTION: Correction to a notice of proposed rulemaking.

SUMMARY: This document contains a correction to a notice of proposed rulemaking (REG-132554-08) that was published in the Federal Register on Tuesday, October 19, 2010 (75 FR 64197) providing guidance relating to certain provisions of the Internal Revenue Code that apply to hybrid defined benefit pension plans.

FOR FURTHER INFORMATION CONTACT: Neil S. Sandhu, Lauson C. Green, or Linda S. F. Marshall at (202) 622-6090 (not a toll-free number).

SUPPLEMENTARY INFORMATION:

Background

The correction notice that is the subject of this document is under section 411 of the Internal Revenue Code.

Need for Correction

As published, the notice of proposed rulemaking (REG-132554-08) contains an error that may prove to be misleading and is in need of clarification.

Correction of Publication

Accordingly, the publication of the notice of proposed rulemaking (REG-132554-08), which was the subject of FR Doc. 2010-25942, is corrected as follows:

§ 1.411(b)(5)-1 [Corrected]

On page 64214, column 3, § 1.411(b)(5)-1(e)(2)(iii)(A), line 19, the language “change the rate of interest crediting” is corrected to read “change the interest crediting rate”.

Guy R. Traynor,
Acting Chief, Publications and Regulations Branch, Legal Processing Division, Associate Chief Counsel, Procedure and Administration.

[FR Doc. 2010-32538 Filed 12-27-10; 8:45 am]

BILLING CODE 4830-01-P